DEPARTMENT OF COMMERCE

Census Bureau

Agency Information Collection Activities; Submission to the Office of Management and Budget (OMB) for Review and Approval; Comment Request; Current Population Survey (CPS) Basic Demographic Items

AGENCY: Census Bureau, Department of Commerce.

ACTION: Notice of information collection, request for comment.

SUMMARY: The Department of Commerce, in accordance with the Paperwork Reduction Act (PRA) of 1995, invites the general public and other Federal agencies to comment on proposed, and continuing information collections, which helps us assess the impact of our information collection requirements and minimize the public's reporting burden. The purpose of this notice is to allow for 60 days of public comment on the proposed extension of the Current Population Survey Basic Demographics, prior to the submission of the information collection request (ICR) to OMB for approval.

DATES: To ensure consideration, comments regarding this proposed information collection must be received on or before August 26, 2025.

ADDRESSES: Interested persons are invited to submit written comments by email to Kyra Linse, Survey Director, Current Population Surveys at dsd.cps@census.gov. Please reference Current Population Survey (CPS) Basic Demographic Items in the subject line of your comments. You may also submit comments, identified by Docket Number USBC-2025-0009, to the Federal e-Rulemaking Portal: http://www.regulations.gov. All comments received are part of the public record. No comments will be posted to http://www.regulations.gov for public viewing until after the comment period has closed. Comments will generally be posted without change. All Personally Identifiable Information (for example, name and address) voluntarily submitted by the commenter may be publicly accessible. Do not submit Confidential Business Information or otherwise sensitive or protected information. You may submit attachments to electronic comments in Microsoft Word, Excel, or Adobe PDF file formats.

FOR FURTHER INFORMATION CONTACT: Requests for additional information or specific questions related to collection activities should be directed to Kyra Linse, Survey Director, Current Population Surveys via email at dsd.cps@census.gov, or by phone at 301-763-9280.

SUPPLEMENTARY INFORMATION:

I. Abstract

The Census Bureau plans to request clearance from the Office of Management and Budget (OMB) for the collection of basic demographic information on the Current Population Survey (CPS) beginning in November 2025. The current clearance expires October 31, 2025.

The CPS has been the source of official government statistics on employment and unemployment since 1942. The Bureau of Labor Statistics (BLS) and the Census Bureau jointly sponsor the basic monthly survey. The Census Bureau also prepares and conducts all the field work. At the OMB's request, the Census Bureau and the BLS divide the clearance request in order to reflect the joint sponsorship and funding of the CPS program. BLS submits a separate clearance request for the portion of the CPS that collects labor force information for the civilian noninstitutional population. Some of the information within that portion includes employment status, number of hours worked, job search activities, earnings, duration of unemployment, and the industry and occupation classification of the job held the previous week. The justification that follows is in support of the demographic data.

The demographic information collected in the CPS provides a unique set of data on selected characteristics for the civilian noninstitutional population. Some of the demographic information we collect are age, marital status, sex, Armed Forces status, education, race, origin, and family income. We use these data in conjunction with other data, particularly the monthly labor force data, as well as periodic supplement data. We also use these data independently for internal analytic research and for evaluation of other surveys. In addition, we use these data as a control to produce accurate estimates of other personal characteristics.

The Census Bureau, in conjunction with the Bureau of Labor Statistics (BLS), is conducting an experimental collection in the Current Population Survey (CPS) of Race and Ethnicity information using the new SPD15 standard. The main goal of the study is to assess the effect of the new race and ethnicity standard (2024 SPD15) on estimates obtained from the CPS. The study will also aid in the implementation of the new standard for interviewer-administered data collections (both in-person and by phone). The study will examine the impact of differences in reporting using the new 2024 standard and the 1997 standard (which CPS currently is using) on race distributions, labor force estimates, weighting, and missing data.

In July 2025, CPS began collecting race and ethnicity information using the 2024 SPD15 questions in rotations 2 through 8 to get a full representation for the initial analysis. From August 2025 onward, collection of race and ethnicity information will occur for every household in rotation 2 until the 2024 SPD15 based questions are fully implemented in the CPS. This will help reduce question-bias by not asking race in the same interview. To reduce respondent burden and to avoid introducing complexity to the production instrument, replacement households and new persons will not be asked 2024 SPD 15 questions. In addition, in August 2025 only, we plan to re-ask the 2024 SPD15 based questions for households in rotation 3 to analyze the consistency of reported races using the 2024 SPD 15 questions (as data using the 2024 SPD questions will be collected in both July 2025 and August 2025).

II. Method of Collection

The CPS basic demographic information is collected from individual households by both personal visit and telephone interviews each month. All interviews are conducted using computer-assisted interviewing. Households in the CPS are in sample for four consecutive months, and for the same four months the following year. This is called a 4-8-4 rotation pattern; households are in sample for four months, in a resting period for eight months, and then in sample again for four months.

III. Data

OMB Control Number: 0607-0049.

Form Number(s): There are no forms. All interviews are conducted on computers.

Type of Review: Regular submission, Request for Extension, without Change, of a Currently Approved Collection.

Affected Public: Households.

Estimated Number of Respondents: 59,000 per month.

Estimated Time per Response: 1.5 minutes.

Estimated Total Annual Burden Hours: 17,700.

Estimated Total Annual Cost to Public: There is no cost to the respondents other than their time (This is not the cost of respondents' time, but the indirect costs respondents may incur for such things as purchases of specialized software or hardware needed to report, or expenditures for accounting or records maintenance services required specifically by the collection.)

Respondent's Obligation: Voluntary.

Legal Authority: Title 13 U.S.C. 8(b), 141, and 182.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include, or summarize, each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Departmental PRA Compliance Officer, Office of the Under Secretary for Economic Affairs, Commerce Department.

[FR Doc. 2025-11855 Filed 6-26-25; 8:45 am]

BILLING CODE 3510-07-P